DEPARTMENT OF DEFENSE

Department of the Navy

Meetings of the Naval Research Advisory Committee

AGENCY: Department of the Navy, DOD.

ACTION: Notice of closed meetings.

SUMMARY: The Naval Research Advisory Committee (NRAC) Panel on Sea Basing will meet to hold classified government briefs and receive proprietary information from the commercial sector that the Department of the Navy should incorporate in its recommendations for near and far term technologies or equipment to be developed.

DATES: The meetings will be held on Tuesday, July 13, 2004, and Wednesday, July 14, 2004, from 8 a.m. to 5 p.m.

ADDRESSES: The meetings will be held at the Office of Naval Research, 800 North Quincy Street, Arlington, VA 22217-5660.

FOR FURTHER INFORMATION CONTACT: Dennis Ryan, Program Director, Naval Research Advisory Committee, 800 North Quincy Street, Arlington, VA 22217-5660, (703) 696-6769.

SUPPLEMENTARY INFORMATION: This notice is provided in accordance with the provisions of the Federal Advisory Committee Act (5 U.S.C. app. 2). All sessions of the meetings will be devoted to executive sessions that will include discussions and technical examination of information related to sea basing technologies. These briefings and discussions will contain proprietary information and classified information that is specifically authorized under criteria established by Executive Order to be kept secret in the interest of national defense and are in fact properly classified pursuant to such Executive Order. The proprietary, classified and non-classified matters to be discussed are so inextricably intertwined as to preclude opening any portion of the meetings.

In accordance with 5 U.S.C. app. 2, section 10(d), the Secretary of the Navy has determined in writing that the public interest requires that all sessions of the meetings be closed to the public because they will be concerned with matters listed in 5 U.S.C. 552b(c)(1) and (4). Due to an unavoidable delay in administrative processing, the 15 days advance notice could not be provided.

Dated: July 1, 2004.
J.T. Baltimore,
Lieutenant Commander, Judge Advocate General's Corps, U.S. Navy, Alternate Federal Register Liaison Officer.

[FR Doc. 04-15494 Filed 7-6-04; 8:45 am]

BILLING CODE 3810-FF-P